DEPARTMENT OF HEALTH AND HUMAN SERVICES

Health Resources and Services Administration

Health Center Program Performance Period Extensions

AGENCY: Health Resources and Services Administration (HRSA), Department of Health and Human Services.

ACTION: Notice of the extension of the standard performance period for health center grantees from 3 to 4 years and request for information from current recipients.

SUMMARY: HRSA is extending health center grantees' performance periods to a total of 4 years. The change from a 3-year performance period to a 4-year performance period will provide current health centers additional time to serve their service area before they apply for a new award and will provide a funding amount consistent with what would have been made available through the Service Area Competition (SAC). The extended performance period supports HRSA's commitment to continuity in access to comprehensive primary care and will not impact HRSA's ability to ensure that health centers comply with Health Center Program requirements. This update will not change the statutory requirement that health centers that fail to comply with Health Center Program requirements will receive a 1-year performance period if a new project period is awarded.

FOR FURTHER INFORMATION CONTACT: Matt Kozar, Division Director, Office of Program and Policy Development, Bureau of Primary Care, HRSA, at mkozar@hrsa.gov and 301-443-1034.

SUPPLEMENTARY INFORMATION: The 194 health center awardees, as listed in the table below, will receive a 1-year Extension with Funds for a total 4-year performance period.

• Amount of Award(s): 192 non-competitive awards for approximately $828 million.

• Project Period: January 1, 2023, to December 31, 2026; February 1, 2023, to January 31, 2027.

• Assistance Listing Number: 93.224.

• Award Instrument: Grant—Non-competing Continuation.

• Authority: Section 330 of the Public Health Service Act, as amended (42 U.S.C. 254b, as amended).

Table 1. Recipients and award amounts grant Number | Budget period start | Name | City | State | Est award amount
H80CS01138 | Jan | Bethel Family Clinic | Bethel | AK | $1,840,427
H80CS04434 | Jan | Native Village of Eyak | Cordova | AK | 1,840,661
H80CS01130 | Jan | Norton Sound Health Corporation | Nome | AK | 3,141,641
H80CS00020 | Jan | Alabama Regional Medical Services | Birmingham | AL | 5,127,920
H80CS00230 | Jan | El Rio Santa Cruz Neighborhood Health Center, Inc | Tucson | AZ | 10,074,355
H80CS26606 | Jan | Horizon Health and Wellness, Inc | Apache Junction | AZ | 1,816,493
H80CS26604 | Jan | Neighborhood Outreach Access to Health | Phoenix | AZ | 3,090,888
H80CS00651 | Jan | North Country Healthcare, Inc | Flagstaff | AZ | 6,746,754
H80CS04321 | Jan | Sunset Community Health Center | Somerton | AZ | 6,167,152
H80CS00142 | Jan | AltaMed Health Services Corporation | Los Angeles | CA | 18,049,823
H80CS08739 | Jan | Avenal Community Health Center | Lemoore | CA | 3,718,335
H80CS00138 | Jan | Community Medical Centers, Inc | Stockton | CA | 8,375,519
H80CS26608 | Jan | Coppertower Family Medical Center, Inc | Cloverdale | CA | 1,215,617
H80CS00628 | Jan | Mendocino Community Health Clinic, Inc | Ukiah | CA | 5,449,353
H80CS26624 | Jan | Pomona Community Health Center | Pomona | CA | 2,701,790
H80CS26609 | Jan | Ritter Center | San Rafael | CA | 1,347,670
H80CS00226 | Jan | Salud Para La Gente | Watsonville | CA | 4,816,103
H80CS00049 | Jan | San Francisco Community Clinic Consortium | San Francisco | CA | 7,433,077
H80CS00223 | Jan | Tiburcio Vasquez Health Center, Inc | Union City | CA | 2,588,719
H80CS00137 | Jan | United Health Centers of The San Joaquin Valley | Fresno | CA | 13,254,279
H80CS26617 | Jan | Via Care Community Health Center, Inc | Los Angeles | CA | 2,578,738
H80CS00040 | Jan | The Colorado Coalition for the Homeless | Denver | CO | 8,832,842
H80CS00212 | Jan | Peak Vista Community Health Centers | Colorado Springs | CO | 9,909,055
H80CS00134 | Jan | Valley Wide Health Systems, Inc | Alamosa | CO | 8,056,605
H80CS00155 | Jan | Generations Family Health Center, Inc | Willimantic | CT | 4,048,775
H80CS00026 | Jan | Camillus Health Concern, Inc | Miami | FL | 4,259,012
H80CS00178 | Jan | Central Florida Family Health Center, Inc | Sanford | FL | 5,860,129
H80CS25684 | Jan | Health Care District of Palm Beach County | West Palm Beach | FL | 7,278,563
H80CS00097 | Jan | MCR Health, Inc | Palmetto | FL | 9,737,629
H80CS00182 | Jan | Miami Beach Community Health Center, Inc | Miami Beach | FL | 7,826,762
H80CS00187 | Jan | Treasure Coast Community Health, Inc | Fellsmere | FL | 4,167,714
H80CS08780 | Jan | Diversity Health Center, Inc | Hinesville | GA | 2,141,846
H80CS00022 | Jan | Saint Joseph's Mercy Care Services | Atlanta | GA | 5,683,526
H80CS00678 | Jan | Valley Healthcare System, Inc | Columbus | GA | 3,098,570
H80CS06641 | Jan | Ko'olauloa Health Center | Kahuku | HI | 1,957,949
H80CS06667 | Jan | Community Health Center of Fort Dodge, Inc | Fort Dodge | IA | 1,949,691
H80CS00113 | Jan | Crusaders Central Clinic Association | Rockford | IL | 6,924,055
H80CS00114 | Jan | HealthNet, Inc | Indianapolis | IN | 8,594,547
H80CS00102 | Jan | Family Health Centers, Inc | Louisville | KY | 6,912,875
H80CS00083 | Jan | Park Duvalle Community Health Center, Inc | Louisville | KY | 5,435,002
H80CS00206 | Jan | Catahoula Parish Hospital District #2 | Sicily Island | LA | 2,515,789
H80CS26580 | Jan | Common Ground Health Clinic | Gretna | LA | 1,548,517
H80CS00129 | Jan | Excelth, Incorporated | New Orleans | LA | 5,849,119
H80CS00006 | Jan | Boston Health Care for the Homeless Program, Inc | Boston | MA | 4,685,451
H80CS00734 | Jan | Chase Brexton Health Services, Inc | Baltimore | MD | 4,015,116
H80CS00017 | Jan | Health Care for the Homeless, Inc | Baltimore | MD | 6,211,119
H80CS26633 | Jan | Owensville Primary Care, Inc | West River | MD | 1,378,296
H80CS00068 | Jan | Total Health Care, Inc | Baltimore | MD | 9,320,756
H80CS08738 | Jan | Covenant Community Care, Inc | Detroit | MI | 4,347,804
H80CS00033 | Jan | Detroit Health Care For The Homeless | Detroit | MI | 5,273,464
H80CS26564 | Jan | South Central Missouri Community Health Center | Rolla | MO | 2,269,295
H80CS00084 | Jan | Central Mississippi Civic Improvement Association, Inc | Jackson | MS | 7,974,380
H80CS00188 | Jan | Coastal Family Health Center, Inc | Biloxi | MS | 9,027,387
H80CS00009 | Jan | City of Newark, New Jersey | Newark | NJ | 4,076,227
H80CS00164 | Jan | Community Health Care, Inc | Bridgeton | NJ | 8,326,868
H80CS00036 | Jan | Albuquerque Health Care for the Homeless, Inc | Albuquerque | NM | 3,225,622
H80CS21582 | Jan | Anthony L. Jordan Health Corporation | Rochester | NY | 4,449,956
H80CS00007 | Jan | Care For The Homeless | New York | NY | 6,605,634
H80CS00171 | Jan | Neighborhood Health Center of WNY, Inc | Buffalo | NY | 3,785,704
H80CS00166 | Jan | Northern Oswego County Health Services, Inc | Pulaski | NY | 3,001,661
H80CS00029 | Jan | Care Alliance | Cleveland | OH | 4,635,985
H80CS00118 | Jan | Columbus Neighborhood Health Center, Inc | Columbus | OH | 7,011,836
H80CS00201 | Jan | Healthsource Of Ohio, Inc | Loveland | OH | 8,334,320
H80CS00193 | Jan | Hopewell Health Centers, Inc | Chillicothe | OH | 5,439,208
H80CS00196 | Jan | Ohio North East Health Systems, Inc | Youngstown | OH | 4,713,674
H80CS26577 | Jan | Talbert House Health Center | Franklin | OH | 1,884,196
H80CS26585 | Jan | Community Health Center of Northeast Oklahoma, Inc | Jay | OK | 1,428,265
H80CS00149 | Jan | County of Multnomah | Portland | OR | 9,809,194
H80CS00162 | Jan | Centro De Servicios Primarios De Salud, Inc | Florida | PR | 1,895,587
H80CS02467 | Jan | Republic of Palau | Koror | PW | 1,375,337
H80CS00154 | Jan | Blackstone Valley Community Health Care, Inc | Pawtucket | RI | 3,200,860
H80CS00057 | Jan | Providence Community Health Centers, Inc | Providence | RI | 7,212,115
H80CS00216 | Jan | Community Health Center of the Black Hills, Inc | Rapid City | SD | 3,043,104
H80CS00135 | Jan | Horizon Health Care, Inc | Howard | SD | 9,784,983
H80CS00219 | Jan | City of Sioux Falls | Sioux Falls | SD | 3,048,204
H80CS00128 | Jan | Centro De Salud Familiar La Fe, Inc | El Paso | TX | 6,234,258
H80CS00203 | Jan | La Esperanza Clinic, Inc | San Angelo | TX | 3,238,333
H80CS00126 | Jan | Regence Health Network, Inc | Plainview | TX | 5,972,736
H80CS00073 | Jan | Peninsula Institute for Community Health, Inc | Newport News | VA | 6,953,702
H80CS00147 | Jan | Columbia Basin Health Association | Othello | WA | 6,707,625
H80CS00319 | Jan | Community Health Association of Spokane | Spokane | WA | 7,791,273
H80CS00677 | Jan | Peninsula Community Health Services | Bremerton | WA | 3,148,785
H80CS26599 | Feb | Kodiak Area Native Association | Kodiak | AK | 2,514,761
H80CS26588 | Feb | Christ Health Center, Inc | Birmingham | AL | 1,375,147
H80CS00795 | Feb | Health Services, Inc | Montgomery | AL | 8,136,046
H80CS26611 | Feb | The Achievable Foundation | Culver City | CA | 735,054
H80CS00787 | Feb | Asian Pacific Health Care Venture, Inc | Los Angeles | CA | 4,902,955
H80CS26616 | Feb | Benevolence Industries, Inc | Los Angeles | CA | 2,222,955
H80CS00052 | Feb | Children's Hospital & Research Center at Oakland | Oakland | CA | 2,424,630
H80CS26607 | Feb | Greenville Rancheria | Greenville | CA | 1,530,107
H80CS26619 | Feb | Kedren Community Health Center, Inc | Los Angeles | CA | 1,206,507
H80CS06674 | Feb | Los Angeles Christian Health Centers | Los Angeles | CA | 5,087,536
H80CS26621 | Feb | Los Angeles LGBT Center | Los Angeles | CA | 2,200,370
H80CS26622 | Feb | Nhan Hoa Comprehensive Health Care Clinic, Inc | Garden Grove | CA | 1,283,149
H80CS26623 | Feb | Operation Samahan, Inc | National City | CA | 2,686,587
H80CS26625 | Feb | Santa Barbara Neighborhood Clinics | Santa Barbara | CA | 2,042,112
H80CS00048 | Feb | County of Santa Cruz | Santa Cruz | CA | 2,852,721
H80CS26627 | Feb | Serve the People, Inc | Santa Ana | CA | 2,667,302
H80CS08730 | Feb | Westside Family Health Center | Culver City | CA | 2,249,634
H80CS00690 | Feb | Clinica Campesina Family Health Services | Lafayette | CO | 8,956,325
H80CS00618 | Feb | Borinquen Health Care Center, Inc | Miami | FL | 7,968,464
H80CS26589 | Feb | The Center for Family and Child Enrichment, Inc | Miami | FL | 1,514,528
H80CS00423 | Feb | Central Florida Health Care, Inc | Winter Haven | FL | 9,356,810
H80CS00809 | Feb | Community Health Centers, Inc | Winter Garden | FL | 8,861,436
H80CS26590 | Feb | EMPOWER U, Inc | Miami | FL | 1,696,296
H80CS26626 | Feb | FoundCare Inc | West Palm Beach | FL | 2,680,886
H80CS00732 | Feb | Jessie Trice Community Health System, Inc | Miami | FL | 10,972,059
H80CS00019 | Feb | North Broward Hospital District | Fort Lauderdale | FL | 3,202,758
H80CS00081 | Feb | Rural Health Care, Incorporated | Palatka | FL | 6,680,788
H80CS00393 | Feb | CareConnect Health, Inc | Richland | GA | 7,501,495
H80CS26591 | Feb | Center for Pan Asian Community Services, Inc | Atlanta | GA | 2,248,570
H80CS26592 | Feb | Coastal Community Health Services, Inc | Brunswick | GA | 2,449,791
H80CS26593 | Feb | Good Samaritan Health Center of Cobb, Inc | Marietta | GA | 1,540,918
H80CS26594 | Feb | Health Education, Assessment and Leadership, Inc | Atlanta | GA | 2,536,129
H80CS00807 | Feb | Waianae District Comprehensive Health and Hospital Board, Inc | Waianae | HI | 3,990,277
H80CS00670 | Feb | Community Health Care, Inc | Davenport | IA | 5,063,179
H80CS00815 | Feb | Peoples Community Health Clinic, Inc | Waterloo | IA | 3,348,320
H80CS26601 | Feb | Family Medicine Residency of Idaho | Boise | ID | 1,480,731
H80CS00556 | Feb | Valley Family Health Care, Inc | Payette | ID | 4,554,206
H80CS26565 | Feb | Hamdard Center for Health & Human Services NFP | Addison | IL | 1,514,484
H80CS00324 | Feb | University of Illinois | Chicago | IL | 4,387,891
H80CS26566 | Feb | Jane Pauley Community Health Center, Inc | Indianapolis | IN | 3,459,278
H80CS26568 | Feb | Southlake Community Mental Health Center, Inc | Merrillville | IN | 2,153,263
H80CS26569 | Feb | Wabash Valley Health Center, Inc | Terre Haute | IN | 1,174,333
H80CS00619 | Feb | Big Sandy Health Care, Inc | Prestonsburg | KY | 3,851,985
H80CS26595 | Feb | Pennyroyal Healthcare Service Inc | Princeton | KY | 1,857,174
H80CS26579 | Feb | C A S S E Dental Health Institute | Shreveport | LA | 2,555,332
H80CS26581 | Feb | Jefferson Parish Human Services Authority | Metairie | LA | 1,385,065
H80CS08764 | Feb | Morehouse Community Medical Centers, Inc | Bastrop | LA | 2,613,881
H80CS26582 | Feb | MQVN Community Development Corp | New Orleans | LA | 1,438,250
H80CS26583 | Feb | NO/AIDS Task Force | New Orleans | LA | 2,326,502
H80CS00378 | Feb | Charles River Community Health, Inc | Boston | MA | 3,702,429
H80CS26638 | Feb | Island Health, Inc | Edgartown | MA | 1,412,934
H80CS00001 | Feb | City of Springfield | Springfield | MA | 2,362,888
H80CS00067 | Feb | Park West Health Systems, Inc | Baltimore | MD | 4,365,120
H80CS00030 | Feb | County of Ingham | Lansing | MI | 2,773,592
H80CS26511 | Feb | Upper Great Lakes Family Health Center | Hancock | MI | 3,256,108
H80CS00028 | Feb | Hennepin County | Minneapolis | MN | 2,289,115
H80CS26563 | Feb | Compass Health, Inc | Clinton | MO | 10,776,978
H80CS26560 | Feb | East Central Missouri Behavioral Health Services, Inc | Mexico | MO | 1,264,246
H80CS26561 | Feb | Health Care Coalition of Lafayette County | Lexington | MO | 2,975,818
H80CS00671 | Feb | Northwest Health Services, Inc | Saint Joseph | MO | 5,204,660
H80CS00633 | Feb | Access Family Health Services, Inc | Smithville | MS | 2,398,543
H80CS00704 | Feb | Montana Migrant & Seasonal Farm Workers Council, Inc | Billings | MT | 3,523,076
H80CS26596 | Feb | Ocracoke Health Center, Inc | Ocracoke | NC | 956,895
H80CS00490 | Feb | The Stedman-Wade Health Services, Inc | Wade | NC | 2,035,716
H80CS26562 | Feb | Heartland Health Center, Inc | Grand Island | NE | 1,438,898
H80CS26640 | Feb | Mid-State Health Center | Plymouth | NH | 1,679,642
H80CS00380 | Feb | Southern Jersey Family Medical Centers, Inc | Hammonton | NJ | 7,189,854
H80CS04211 | Feb | Zufall Health Center, Inc | Dover | NJ | 6,272,425
H80CS26605 | Feb | Northern Nevada HIV Outpatient Program, Education and Services | Reno | NV | 1,778,657
H80CS00313 | Feb | Hudson River Healthcare, Inc | Peekskill | NY | 21,524,887
H80CS26630 | Feb | Jericho Road Ministries, Inc | Buffalo | NY | 1,635,945
H80CS26631 | Feb | La Casa De Salud Inc | Bronx | NY | 3,181,047
H80CS26574 | Feb | Asian Services in Action, Inc | Akron | OH | 1,529,543
H80CS00399 | Feb | The Community Action Committee of Pike County | Piketon | OH | 4,402,783
H80CS00816 | Feb | Ohio Hills Health Services | Barnesville | OH | 2,242,146
H80CS26578 | Feb | County of Wood | Bowling Green | OH | 1,181,543
H80CS00320 | Feb | Community Health Centers, Inc | Spencer | OK | 7,575,782
H80CS26602 | Feb | Bandon Community Health Center | Bandon | OR | 1,395,291
H80CS00705 | Feb | Centerville Clinics, Inc | Fredericktown | PA | 5,640,164
H80CS26635 | Feb | Project H.O.M.E | Philadelphia | PA | 1,667,917
H80CS00707 | Feb | Rural Health Corporation of Northeastern Pennsylvania | Wilkes Barre | PA | 3,058,937
H80CS00389 | Feb | Spectrum Health Services, Inc | Philadelphia | PA | 3,448,095
H80CS00379 | Feb | Corporacion de Servicios de Salud y Medicina Avanzada | Cidra | PR | 7,069,774
H80CS00382 | Feb | Morovis Community Health Center, Inc | Morovis | PR | 3,712,502
H80CS00712 | Feb | Prymed Medical Care, Inc | Ciales | PR | 3,016,725
H80CS00454 | Feb | Thundermist Health Center | Woonsocket | RI | 5,482,872
H80CS26597 | Feb | Care Net of Lancaster | Lancaster | SC | 1,628,092
H80CS00750 | Feb | Community Medicine Foundation, Inc | Rock Hill | SC | 2,934,738
H80CS00730 | Feb | Eau Claire Cooperative Health Center | Columbia | SC | 7,264,357
H80CS00578 | Feb | New Horizon Family Health Services, Inc | Greenville | SC | 5,800,227
H80CS00333 | Feb | Lake County Primary Care | Tiptonville | TN | 2,283,896
H80CS26598 | Feb | Maury Regional Hospital | Columbia | TN | 1,261,121
H80CS00762 | Feb | Ocoee Regional Health Corporation | Benton | TN | 1,940,628
H80CS26644 | Feb | Utah Partners for Health | Midvale | UT | 1,735,438
H80CS00331 | Feb | Bland County Medical Clinic, Inc | Bastian | VA | 1,800,345
H80CS00018 | Feb | Daily Planet, Inc | Richmond | VA | 3,100,806
H80CS26636 | Feb | Rockbridge Area Free Clinic | Lexington | VA | 1,531,934
H80CS00386 | Feb | Stony Creek Community Health Center | Stony Creek | VA | 398,394
H80CS26641 | Feb | Battenkill Valley Health Center, Inc | Arlington | VT | 1,481,503
H80CS26642 | Feb | Five-Town Health Alliance, Inc | Bristol | VT | 1,559,455
H80CS26798 | Feb | Gifford Health Care, Inc | Randolph | VT | 1,704,120
H80CS00647 | Feb | Country Doctor Community Clinic | Seattle | WA | 3,244,516
H80CS00437 | Feb | International Community Health Services | Seattle | WA | 2,832,480
H80CS26603 | Feb | The N. A. T. I. V. E. Project | Spokane | WA | 1,355,489
H80CS00493 | Feb | New Health Programs Association | Chewelah | WA | 2,690,337
H80CS00639 | Feb | Yakima Valley Farm Workers Clinic | Toppenish | WA | 20,025,936
H80CS00035 | Feb | New Community Clinic, Inc. Ltd | Green Bay | WI | 2,546,831
H80CS00034 | Feb | Outreach Community Health Centers, Inc | Milwaukee | WI | 3,168,321
H80CS00384 | Feb | Monroe County Health Department | Union | WV | 2,532,477
H80CS26637 | Feb | Williamson Health & Wellness Center, Inc | Williamson | WV | 1,885,235

Purpose/Justification: Health centers currently receive a 3-year performance period when they successfully compete and receive Health Center Program funding through a SAC. HRSA will begin to move health centers with a current 3-year performance period to a 4-year performance period starting in fiscal year (FY) 2026 to:

• Reduce the burden on health centers by extending the timing of their SAC application submission from every 3 years to every 4 years.

• Provide HRSA with increased operational flexibility and accountability by distributing the review and processing of SACs, program analysis and recommendations, and operational site visits more evenly across the 4-year funding cycles of health center competitive awards while further ensuring the integrity of compliance reviews and funding decisions for the Health Center Program.

• Increase the continuity of patient access to comprehensive primary health care services by committing each health center to provide services for a longer time frame in each service area, while remaining aligned with current grants requirements and policies.

Over the next 3 years, health centers with a current 3-year performance period will receive a 4-year performance period, either through a 1-year Extension with Funds to their existing performance period or through a new 4-year performance period when they apply to serve an available service area and successfully compete and receive funding through a SAC. Health centers with a current performance period of January 1, 2023, through December 31, 2025, and February 1, 2023, through January 31, 2026, that receive an Extension with Funds will not be required to submit a Budget Period Progress Report Non-Competing Continuation (BPR) prior to their next scheduled SAC application but rather will submit equivalent information via a Request for Information. The 1-year performance period extension will result in a 4-year performance period, which reduces the administrative burden for health centers, increases operational flexibility and accountability for HRSA, and ensures continuity of access to comprehensive primary care for health center patients.

HRSA will provide health centers that have a January or February budget period start date and are scheduled to compete for their service area in FY 2026 with a 1-year Extension with Funds. This award action will initiate the process that eventually provides all compliant health center awardees with a 4-year performance period and creates a balanced number of health centers that compete for their service area over each 4-year funding cycle. Not supporting this approach would require differentiated performance periods that would provide some health centers with a 3-year performance period and others with a 4-year performance period, thereby creating differing expectations and requirements for health centers and their patients in the continuity of access to comprehensive primary health care services in their service area.

Request for Recipient Response: This action extends the performance period with funds to Health Center Program awards. Awards with a current performance period of January 1, 2023, through December 31, 2025, and February 1, 2023, through January 31, 2026, will be extended by 12 months to December 31, 2026, and January 31, 2027, respectively. These extensions will prevent interruptions in access to critical health care services in the health centers' communities and shift performance periods from 3 years to 4 years. To process this action, current health center grantees must respond to this request for information (RFI) within the specified timeframe by providing a SF-424A, Budget Narrative, Form 1C, Form 3, Project Narrative Update, and Supplemental Award Update (if applicable), as detailed below.

Activities/Requirements: Activities and work funded under this 1-year extension are within the scope of the current award. All of the terms and conditions of the current award apply to activities and work supported by this 1-year extension.

Required Submission Response: Health center awardees must submit the response to this RFI in HRSA's Electronic Handbook. If HRSA does not receive a response to the RFI by the deadline, or the response to the RFI is incomplete or non-responsive, there may be a delay or lapse in the issuance of funding. The response should not exceed 20 pages, single spaced, and must include the following information.

1. SF-424A: Budget Information Form

Upload an SF-424A: BUDGET INFORMATION FORM attachment.

Section A: Budget Summary: Verify the pre-populated list of Health Center Program funding types:

• Community Health Center (CHC)

• Migratory and Seasonal Agricultural Workers (MSAW)

• Homeless Population (HP)

• Residents of Public Housing (RPH)

If the funding types are incorrect, make necessary adjustments. In the Federal column, provide the funding request for each Health Center Program funding type (CHC, MSAW, HP, RPH). The total federal funding requested across all Health Center Program funding types must equal the “Recommended Federal Budget” amount. This amount should correspond with the recommended future support amount (Item 33) on your most recent H80 NOA.

Note: This RFI submission may not be used to request changes to the total award, funding type(s), or Health Center Program funds allocation between funding types. Funding must be requested and will be awarded proportionately for all funding types as currently funded under the Health Center Program.

In the Non-Federal column, provide the total non-federal funding sources for each type of Health Center Program (CHC, MSAW, HP, RPH). The total for the Non-Federal column should equal the Total Non-Federal value on Form 3: Income Analysis (located at https://bphc.hrsa.gov/sites/default/files/bphc/funding/bpr-form-3.pdf).

Section B: Object Class Categories: Provide the object class category breakdown (i.e., line-item budget) for FY 2026 budgeted funds. Include federal funding in the first column and non-federal funding in the second column. Each line represents a distinct object class category that must be addressed in the Budget Narrative. Indirect costs may only be claimed with an approved indirect cost rate (see details in the Budget Narrative section below).

Section C: Non-Federal Resources: Provide a breakdown of non-federal funds by funding source (e.g., state, local) for each type of Health Center Program funding (CHC, MSAW, HP, RPH). If you are a state agency, leave the State column blank and include state funding in the Applicant column. Program income in this section must be consistent with the Total Program Income presented in Form 3: Income Analysis.

Salary Rate Limitation

As required by the current appropriations act, “[n]one of the funds appropriated in this title shall be used to pay the salary of an individual, through a grant or other extramural mechanism, at a rate over Executive Level II.” Effective January 2025, the salary rate limitation is $225,700 (see https://www.opm.gov/policy-data-oversight/pay-leave/salaries-wages/salary-tables/25Tables/exec/html/EX.aspx). As required by law, salary rate limitations may apply in future years and will be updated.

2. Budget Narrative

Upload a budget narrative attachment for the 12-month extension period that explains the amounts requested for each line in Section B, Object Class Categories of the SF-424A Budget Information Form. The Budget Narrative must itemize both your federal request and non-federal resources.

The budget narrative must describe how each line-item will support achieving the project objectives. Refer to 45 CFR 75 (2 CFR 200; see https://www.ecfr.gov/current/title-45/subtitle-A/subchapter-A/part-75#part-75) for information on allowable costs. Include detailed calculations explaining how each line-item expense within each cost category is derived (e.g., number of visits, cost per unit). Include a description for each item in the “other” category.

Include the following in the Budget Narrative:

Personnel Costs: Explain personnel costs and list each staff member who will be supported by Health Center Program funds, name (if possible), position title, percentage of full-time equivalency, and annual salary.

Reminder: An individual's base salary, per se, is NOT constrained by the statutory provision for a salary limitation. The rate limitation limits the amount that may be awarded and charged to the HRSA grant. Provide an individual's actual base salary if it exceeds the cap. Refer to the Sample Budget Narrative on https://bphc.hrsa.gov/funding/funding-opportunities/budget-period-progress-report-bpr-noncompeting-continuation-ncc.

Fringe Benefits: List the components that make up the fringe benefit rate (e.g., health insurance, taxes, unemployment insurance, life insurance, retirement plans, and tuition reimbursement). The fringe benefits should be directly proportional to the personnel costs allocated for the project.

Travel: List travel costs according to local and long-distance travel. For local travel, outline the mileage rate, number of miles, reason for travel, and staff members/consumers completing the travel. The budget should also reflect the travel expenses (e.g., airfare, lodging, parking, per diem, etc.) for each person and the trip associated with participating in meetings and other proposed training or workshops. Name the traveler(s) if possible, describe the purpose of the travel, and provide the number of trips involved, the destinations, and the number of individuals for whom funds are requested.

Equipment: List equipment costs and justify the need for the equipment to carry out the program's goals. Extensive justification and a detailed status of current equipment must be provided when requesting funds to purchase items that meet the definition of equipment (a unit cost of $10,000 or more and a useful life of 1 or more years).

Supplies: List the items that will be used to implement the proposed project. Separate items into three categories: office supplies (e.g., paper, pencils), medical supplies (e.g., syringes, blood tubes, gloves), and educational supplies (e.g., brochures, videos). Items must be listed separately. Equipment items such as laptops, tablets, and desktop computers are classified as a supply if the acquisition cost is under the $10,000 per unit cost threshold.

Contractual/Subawards/Consultant: Provide a clear justification, including how you estimated the costs and the specific contract/subaward deliverables. Attach a summary of contracts with the Budget Narrative. Make sure that your organization has an established and adequate procurement system with fully developed written procedures for awarding and monitoring all contracts/subawards. Recipients must notify potential subrecipients that entities receiving subawards must be registered in the system for award management (SAM) and provide the recipient with their Unique Entity Identifier number (see 2 CFR part 25; https://www.ecfr.gov/current/title-2/subtitle-A/chapter-I/part-25).

In your budget:

• For consultant services, list the total costs for all consultant services. Identify each consultant, the services they will perform, the total number of days, travel costs, and total estimated costs.

• For subawards to entities that will help carry out the work of the grant, describe how you monitor their work to ensure the funds are being properly used.

• Note: You should not provide line-item details on proposed contracts; rather, provide the basis for your cost estimate for the contract.

Per the Suspension and Debarment rules in the Uniform Administrative Requirements, as implemented by HRSA under 2 CFR 200.214, non-federal entities and contractors are subject to the non-procurement debarment and suspension regulations implementing Executive Orders 12549 and 12689, 2 CFR parts 180 and 376. These regulations restrict awards, subawards, and contracts with certain parties debarred, suspended, or otherwise excluded from or ineligible for participation in federal assistance programs or activities.

Other: Include all costs that do not fit into any other category and provide an explanation for each cost in this category (e.g., Electronic Health Record provider licenses, audit, legal counsel). In some cases, rent, utilities, and insurance fall under this category if they are not included in an approved indirect cost rate.

Indirect Costs: Indirect costs are costs you charge across more than one project that cannot be easily separated by project. To charge indirect costs you can select one of two methods:

Method 1—Approved rate. You currently have an indirect cost rate approved by your cognizant federal agency. If indirect costs are included in the budget, attach a copy of the indirect cost rate agreement in the Budget Narrative attachment.

Method 2—De minimis rate. Per 2 CFR 200.414(f) (see https://www.ecfr.gov/current/title-2/subtitle-A/chapter-II/part-200/subpart-E/subject-group-ECFRd93f2a98b1f6455/section-200.414), if you have never received a negotiated indirect cost rate, you may elect to charge a de minimis rate. If you choose this method, costs included in the indirect cost pool must not be charged as direct costs. This rate is 15 percent of modified total direct costs. See 2 CFR 200.1 (https://www.ecfr.gov/current/title-2/subtitle-A/chapter-II/part-200#p-200.1(Modified%20Total%20Direct%20Cost%20(MTDC))) for the definition of modified total direct costs. You can use this rate indefinitely.

3. Form 1C—Documents on File

Form 1C—Documents on File (see https://bphc.hrsa.gov/sites/default/files/bphc/funding/bpr-form-1c.pdf) collects information about key documents that support the implementation of Health Center Program requirements and other applicable funding requirements. These requirements are outlined in the Health Center Program Compliance Manual (see https://bphc.hrsa.gov/compliance/compliance-manual), Notices of Funding Opportunity, Executive Orders, terms and conditions, and other grants policies and regulations. Please note that Form 1C does not require listing all health center documents (e.g., internal policies and procedures, clinical protocols, or legal documents). Detailed instructions for completing Form 1C: Documents on File are available in the BPR User Guide and on https://bphc.hrsa.gov/funding/funding-opportunities/budget-period-progress-report-bpr-noncompeting-continuation-ncc.

4. Form 3—Income Analysis

Form 3—Income Analysis (see https://bphc.hrsa.gov/sites/default/files/bphc/funding/bpr-form-3.pdf) must be uploaded and include the projected income from all sources other than the Health Center Program award for the upcoming budget period. Form 3 is divided into (1) Patient Service Revenue—Program Income and (2) Other Income—Other Federal, State, Local, and Other Income. Instructions for completing Form 3: Income Analysis are included in the BPR User Guide and on https://bphc.hrsa.gov/funding/funding-opportunities/budget-period-progress-report-bpr-noncompeting-continuation-ncc.

5. Project Narrative Update

Submit a Project Narrative Update attachment. You will address your organizational and patient capacity. For each section, your narrative should include:

• A summary of progress and changes to date,

• Expected progress for the rest of the FY 2025 budget period, and

• Projected changes for the upcoming FY 2026 budget period.

Your response in each section is limited to 2,000 characters (including spaces). This is approximately one page.

1. Organizational Capacity: Discuss your progress and any major changes or barriers to organizational capacity since the last application, either SAC or BPR. Describe how changes have impacted or may impact progress. Address the following key areas:

• Staffing, including key management vacancies.

• Operations, including major changes in policies and procedures. You must explain how responses to findings of noncompliance have changed/improved your standards of operation or practice, for example, findings identified in your last SAC or operational site visit, or other conditions on your award (if applicable).

• Financial status, including the most current audit findings.

2. Patient Capacity: Discuss any changes to the service area or to your project that have impacted or may impact patient capacity. Describe factors that have contributed to any downward patient trend (greater than a 5 percent decrease) and plans for reaching the projected patient target goal. Plans could include (but are not limited to) changes in scope, successor-in-interest arrangements, or contract or agreement updates. Detailed instructions for completing the Patient Capacity section are available in Appendix A of the BPR Instructions on the BPR TA web page, https://bphc.hrsa.gov/funding/funding-opportunities/budget-period-progress-report-bpr-noncompeting-continuation-ncc.

6. Supplemental Award Update

If HRSA's Bureau of Primary Healthcare awarded your organization funding for any supplemental awards since FY 2023, upload an update on your progress toward meeting the objectives of each award. Do not include other HRSA or federal supplemental awards in this section. Include awards rolled into your base funding.

For each supplemental award received, describe how available data demonstrates progress toward achieving the supplemental funding objectives. This may include Uniform Data System data showing increases in patients, visits, or services, as well as scope of project data reflecting expanded service hours or the addition of new services.

Your updates should include, but are not limited to the following supplemental awards within the last three FY (since FY 2023):

• School-Based Service Expansion

○ FY 2023

• Primary Care HIV Prevention

○ FY 2023

• Early Childhood Development

○ FY 2023

• Behavioral Health Service Expansion

○ FY 2024

• Expanded Hours

○ FY 2025

For each supplemental award update, limit your response to 500 words. If you have questions about supplemental awards, contact us using the BPHC Contact Form, https://hrsa.my.site.com/support/s/.

Submission Deadline: Submit the response to this request via HRSA's Electronic Handbook no later than XX:XX PM ET on XX/XX/20XX.

System for Award Management: Recipients must continue to maintain active SAM registration with current information during all times that they have an active federal award, an active application, or an active plan under consideration by an agency (unless you are an individual or federal agency that is exempted from those requirements under 2 CFR 25.110(b) or (c), or you have an exception approved by the agency under 2 CFR 25.110(d)). For your SAM registration, you must submit a notarized letter appointing the authorized Entity Administrator.

Intergovernmental Review: This funding is subject to the provisions of Executive Order 12372, as implemented by 45 CFR part 100.

Review Criteria and Process: HRSA will conduct a review of the submitted response in accordance with HRSA guidelines. HRSA reserves the right to request clarification; a resubmission of the budget, narrative and forms, or additional information if the submission is not fully responsive to any of the requirements, or if ineligible activities are proposed. Following the review of all applicable information, HRSA review and awards management officials will determine if special conditions are required, and what level of funding is appropriate. Award decisions and funding levels are discretionary and are not subject to appeal. Continued funding depends on congressional appropriation of funds, satisfactory performance, and a decision that continued funding would be in the government's best interest.

As part of HRSA's required review of risk posed by applicants for this program, as described in 2 CFR 200.206 (see https://www.ecfr.gov/current/title-2/subtitle-A/chapter-II/part-200/subpart-C/section-200.206), HRSA will consider additional factors. These factors include, but are not limited to, past performance and the results of HRSA's assessment of the financial stability of your organization. HRSA reserves the right to conduct site visits and/or use the current compliance status to inform final funding decisions.

Award Notice: HRSA anticipates issuing the Notice of Award approximately 30 days prior to your budget period start date.

Thomas J. Engels,
Administrator.

[FR Doc. 2025-15036 Filed 8-6-25; 8:45 am]

BILLING CODE 4165-15-P